ELECTION ASSISTANCE COMMISSION

Sunshine Act Meetings

AGENCY: Election Assistance Commission.

ACTION: Sunshine Act notice; notice of public meeting agenda.

SUMMARY: Public Meeting: U.S. Election Assistance Commission Local Leadership Council 2025 Annual Meeting.

DATES: Monday, April 21, 2025, 1-4:30 p.m. ET, and Tuesday, April 22, 2025, 9 a.m.-4:45 p.m. ET. Public registration for the event on or before April 18, 2025. Written comments should be received no later than 5 p.m. ET on April 18, 2025.

ADDRESSES: Grand Bohemian Charlotte, Autograph Collection, 201 West Trade Street, Charlotte, North Carolina 28202.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will hold its annual meeting of the EAC Local Leadership Council to conduct regular business and discuss EAC updates and upcoming programs.

Agenda: The U.S. Election Assistance Commission (EAC) Local Leadership Council will hold its 2025 Annual Meeting to conduct regular business and discuss EAC updates and upcoming programs.

Registration is required to attend. Members of the public should register by April 18, 2025, on the event page at eac.gov/events.

The EAC will only accept written comments and questions from members of the public. If you would like to participate, please email clearinghouse@eac.gov with your full name and question or comment no later than 5 p.m. ET on April 18, 2025.

Background: The Local Leadership Council was established in June 2021 under agency authority pursuant to and in accordance with the provisions of the Federal Advisory Committee Act, as amended (5 U.S.C. 10). The Advisory Committee advises the EAC on how best to fulfill the EAC's statutory duties set forth in 52 U.S.C. 20922 as well as such other matters as the EAC determines. It shall provide a relevant and comprehensive source of expert, unbiased analysis and recommendations to the EAC on local election administration topics.

The Local Leadership Council consists of 100 members. The EAC appoints two members from each state after soliciting nominations from each state's election official professional association. At the time of submission, the Local Leadership Council has 91 appointed members. Upon appointment, Advisory Committee members must be serving or have previously served in a leadership role in a state election official professional association.

The full agenda will be posted in advance on the EAC website: https://www.eac.gov/events.

Status: This meeting will be open to the public.

Camden Kelliher,
General Counsel, U.S. Election Assistance Commission.

[FR Doc. 2025-05827 Filed 4-1-25; 4:15 pm]

BILLING CODE 4810-71-P